POSTAL SERVICE

39 CFR Part 20

International Mail: Proposed Changes in Postal Rates and Fees

AGENCY: Postal Service.

ACTION: Proposed rule.

SUMMARY: The Postal Service, under its authority in Title 39 U.S.C. 407, is proposing changes to international mail postage rates and fees. As provided under the Postal Reorganization Act, the proposed changes will result in international postage rates that retain the overall value of service to customers, are fair and reasonable, and are not unduly or unreasonably discriminatory or preferential.

The total international rate increase is 5.9 percent. To the extent possible, the targeted increase is 5.4 percent across-the-board, consistent with our domestic rate filing with the Postal Rate Commission. We are proposing to implement this international pricing change at the same time as the domestic pricing change.

DATES: Submit comments on or before October 17, 2005.

ADDRESSES: Mail or deliver comments to the Manager, Mailing Standards, Attn: Obataiye Akinwole, U.S. Postal Service, 475 L'Enfant Plaza SW., RM 3436, Washington, DC 20260-3436. You may also fax written comments to 202-268-4955. You may inspect and photocopy all written comments between 9 a.m. and 4 p.m., Monday through Friday, at USPS Headquarters Library, 11th Floor North, 475 L'Enfant Plaza SW., Washington, DC.

FOR FURTHER INFORMATION CONTACT: Obataiye B. Akinwole at 202-268-7262, or Thomas P. Philson at 202-268-7355.

SUPPLEMENTARY INFORMATION: The Postal Service is proposing to change international postage rates and fees concurrent with the implementation of new domestic postage rates and fees. We also plan to realign certain Express Mail and Air Parcel Post rate groups based on operational changes that have taken place since the last rate change in 2001. This realignment will enhance service to some European and Asian countries.

The total international rate increase is 5.9 percent. To the extent possible, we targeted the same 5.4 percent across-the-board increase we requested in our domestic rate filing with the Postal Rate Commission. However, for some services and country groups, our proposed increase is more than 5.4 percent. There are two reasons for this difference. First, unlike domestic rates, international rates have not changed since January 2001. During that time, costs have increased. To cover those increases, we need to raise some rates more than 5.4 percent. Second, rates were rounded, in some cases to the nearest $0.05. This rounding resulted in increases for services such as postcards and aerogrammes of more than 5.4 percent. Postcards and aerogrammes are predominantly retail services, and we rounded those rates for customer convenience.

There are five principal categories of international mail service, primarily differentiated by speed of service. They are Global Express Guaranteed (GXG), Global Express Mail (EMS), Global Priority Mail (GPM), Airmail, and Economy Mail. Following is a summary of our proposed changes.

Global Express Guaranteed® (GXG™)

Global Express Guaranteed (GXG) is an international expedited delivery service providing high-speed, guaranteed, and time-definite service from selected post offices to many international destinations. GXG is available for documents (correspondence) and merchandise. Our proposal would increase rates approximately 5.3 percent.

Global Express Mail™ (EMS®)

Global Express Mail (EMS) is an international expedited delivery service provided to approximately 180 countries. Our proposal would increase rates 5.7 percent. For most country groups, the increase is an across-the-board 5.4 percent, rounded to the nearest $0.05. However, with enhanced service and operational changes, rates to certain Asian destinations increased more than 5.4 percent to cover costs.

Global Priority Mail® (GPM)

Global Priority Mail (GPM) is an expedited airmail letter service for documents, printed matter, and uninsured merchandise up to 4 pounds to approximately 50 countries. Our proposal would increase rates 5.6 percent. The proposed change represents an across-the-board 5.4 percent increase, rounded to the nearest $0.25. Because of this rounding, the rate increase is more than 5.4 percent.

Air Letters

Air letters includes personal correspondence, statements of account, printed matter, and uninsured merchandise weighing up to 4 pounds. Our proposal would increase rates 5.2 percent.

Postcards and Postal Cards

Postcards and postal cards are unsealed personal and business correspondence similar to First-Class Mail domestic postcards. Our proposal would increase rates 7.8 percent. The proposed change represents a 5.4 percent increase rounded to the nearest $0.05. Because of this rounding, the rate increase is more than 5.4 percent. Postcards are predominantly a retail service, and we rounded rates for customer convenience.

Aerogrammes

Aerogrammes are designed for personal correspondence and consist of a single page that folds into a self-sealing envelope. There is no domestic equivalent to this service. Our proposal would increase rates 7.1 percent. The proposed change represents a 5.4 percent increase, rounded to the nearest $0.05. Because of this rounding, the rate increase is more than 5.4 percent. Aerogrammes are predominantly a retail service, and we rounded rates for customer convenience.

Air Parcels

Air parcels resemble and are treated similar to heavier-weight domestic Priority Mail. Our proposal would increase rates 5.4 percent.

International Priority Airmail (IPA)

International Priority Airmail (IPA) is a bulk air letter service for letter-post mail weighing up to 4 pounds. Presorted mail and drop ship discounts are available. Volume discounts are available through the International Customized Mail (ICM) program for customers who tender at least 1 million pounds of international letter-post mail (excluding Global Priority Mail) to the Postal Service, or pay at least $2 million in international letter-post postage to the Postal Service. Our proposal would increase rates 7.4 percent. For most country groups, the increase is an across-the-board 5.4 percent. However, because of cost increases to country group 3, rates increased more than 5.4 percent to cover costs.

Economy Letters

Economy letters consists of personal correspondence and business correspondence similar to air letters, except that economy letters travel by surface transportation. Our proposal would increase rates 9.7 percent. For country groups 1 and 4 the increase is an across-the-board 5.4 percent. However, because of cost increases to country groups 2, 3, and 5, rates increased more than 5.4 percent to cover costs.

Economy Parcels

Economy parcels resemble and are treated similar to domestic Parcel Post. Our proposal would increase rates 5.4 percent.

International Surface Air Lift (ISAL)

International Surface Air Lift (ISAL) is a bulk advertising and publications mail service for mail weighing up to 4 pounds. There is a 50-pound minimum per mailing. Presorted mail and drop ship discounts are available. Volume discounts are available through the ICM program for customers who tender at least 1 million pounds of international letter-post mail (excluding Global Priority Mail) to the Postal Service, or pay at least $2 million in international letter-post postage to the Postal Service. Our proposal would increase rates 5.3 percent.

Publishers' Periodicals

Publishers' Periodicals, like domestic periodicals, include magazines, newspapers, journals, and other publications. Our proposal would increase rates 28.4 percent. Because this mail does not cover costs, we increased rates more than 5.4 percent.

Books and Sheet Music

Books and Sheet Music include printed sheet music or books with no advertising and consisting wholly of reading matter or scholarly bibliography. This mail is similar to domestic Media Mail and is transported by surface transportation. Our proposal would increase rates 15.1 percent. For country groups 2, 3, and 4, the increase is an across-the-board 5.4 percent. However, because of cost increases to rate groups 1 and 5, rates increased more than 5.4 percent.

Direct Sacks of Printed Matter to One Addressee (M-Bags)

M-Bags include printed matter and uninsured merchandise weighing up to 4 pounds and accompanying printed matter destined to a single address. M-Bags can be sent by airmail, economy mail, or ISAL. Our proposal would increase rates 7.8 percent. For most country groups, the increase is an across-the-board 5.4 percent. However, because of cost increases for airmail M-Bags, we increased country group 2 and economy M-Bag country group rates more than 5.4 percent.

Special Services

International Special Services fees linked to domestic fees are currently under review by the Postal Rate Commission in Docket No. R2005-1. All other international Special Services fees are included in this document.

Linked to domestic fees | Not linked to domestic fees
Certificate of Mailing | Insurance.¹
Recorded Delivery | International Money Orders.
Express Mail Merchandise Insurance over $100 | International Business Reply Mail.
Restricted Delivery | International Reply Coupons.
Return Receipt | Customs Clearance and Delivery Fee.
Registered Mail |
Pickup Fee |
¹ Insurance fees for Canada are linked to domestic fees.

EMS—Airmail Parcel Post Rate Group Assignments

Some countries are reassigned from one country group to another because of changes in EMS and Air Parcel operations. The changes are listed in the table below.

EMS
Code | Country | From group | To group
881 | Andorra | 6 | 7
708 | Australia | 8 | 5
750 | France | 6 | 7
773 | Hong Kong | 8 | 5
781 | Ireland | 6 | 7
789 | Korea, Republic of (South) | 8 | 5
796 | Luxembourg | 6 | 7
735 | Slovak Republic (Slovakia) | 6 | 7
844 | Spain | 6 | 7

Airmail Parcel Post
Code | Country | From group | To group
708 | Australia | 9 | 5
714 | Belgium | 6 | 7
739 | Denmark | 6 | 7
749 | Finland | 6 | 7
750 | France | 6 | 7
760 | Germany | 6 | 7
762 | Gibraltar | 6 | 7
766 | Greece | 6 | 7
773 | Hong Kong | 9 | 5
781 | Ireland | 6 | 7
783 | Italy | 6 | 7
789 | Korea, Republic of (South) | 9 | 5
957 | Liechtenstein | 6 | 7
796 | Luxembourg | 6 | 7
809 | Netherlands | 6 | 7
818 | Norway | 6 | 7
960 | San Marino | 9 | 7
735 | Slovak Republic (Slovakia) | 6 | 7
847 | Switzerland | 6 | 7
861 | Vatican City | 6 | 7

The rates, fees, and conditions of mailing proposed in this notice, if adopted, would become effective concurrent with any domestic rates adopted as a result of the current proceedings before the Postal Rate Commission (Docket No. R2005-1). All regulatory changes necessary to implement this proposal are given below.

Although exempt from the notice and comment requirements of the Administrative Procedure Act [5 U.S.C. 553(b), (c)] regarding proposed rulemaking by 39 U.S.C. 410(a), the Postal Service invites public comment on the following proposed revisions to the International Mail Manual (IMM), incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. Amend the International Mail Manual (IMM) to incorporate the following rates and fees:

International Rates and Fees

Global Express Guaranteed—Document Service Rates/Groups
Weight not over (lbs.) | Group 1 | Group 2 | Group 3 | Group 4 | Group 5 | Group 6 | Group 7 | Group 8
0.5 | $25.25 | $26.25 | $33.75 | $33.75 | $47.50 | $34.75 | $35.75 | $68.50
1 | 34.75 | 35.75 | 41.00 | 47.50 | 54.75 | 49.50 | 48.50 | 79.00
2 | 40.00 | 42.25 | 48.50 | 54.75 | 68.50 | 58.00 | 54.75 | 93.75
3 | 42.25 | 48.50 | 55.75 | 62.25 | 83.25 | 65.25 | 63.25 | 106.50
4 | 45.25 | 52.75 | 63.25 | 69.50 | 98.00 | 71.75 | 71.75 | 118.00
5 | 48.50 | 58.00 | 70.50 | 77.00 | 111.75 | 79.00 | 79.00 | 130.75
6 | 50.50 | 61.25 | 76.00 | 84.25 | 125.50 | 84.25 | 86.50 | 143.25
7 | 53.75 | 64.25 | 80.00 | 90.75 | 138.00 | 90.75 | 93.75 | 156.00
8 | 55.75 | 68.50 | 84.25 | 98.00 | 150.75 | 96.00 | 101.25 | 168.75
9 | 58.00 | 71.75 | 89.50 | 105.50 | 164.50 | 101.25 | 108.50 | 181.25
10 | 61.25 | 73.75 | 93.75 | 109.50 | 174.00 | 107.50 | 116.00 | 189.75
11 | 63.25 | 77.00 | 97.00 | 115.00 | 184.50 | 110.75 | 122.25 | 201.25
12 | 65.25 | 80.00 | 101.25 | 121.25 | 195.00 | 115.00 | 128.50 | 214.00
13 | 68.50 | 83.25 | 104.25 | 126.50 | 205.50 | 119.00 | 133.75 | 226.50
14 | 70.50 | 85.25 | 108.50 | 131.75 | 216.00 | 123.25 | 139.25 | 238.25
15 | 72.75 | 88.50 | 111.75 | 137.00 | 225.50 | 127.50 | 144.50 | 250.75
16 | 76.00 | 91.75 | 115.00 | 143.25 | 235.00 | 131.75 | 149.75 | 262.50
17 | 78.00 | 93.75 | 119.00 | 148.50 | 243.50 | 136.00 | 155.00 | 274.00
18 | 80.00 | 97.00 | 122.25 | 154.00 | 250.75 | 140.25 | 161.25 | 285.75
19 | 83.25 | 100.25 | 126.50 | 159.25 | 259.25 | 144.50 | 167.50 | 297.25
20 | 85.25 | 102.25 | 129.75 | 164.50 | 266.75 | 148.50 | 174.00 | 308.75
21 | 87.50 | 105.50 | 132.75 | 169.75 | 274.00 | 151.75 | 180.25 | 318.25
22 | 89.50 | 107.50 | 137.00 | 175.00 | 282.50 | 156.00 | 185.50 | 327.75
23 | 91.75 | 110.75 | 140.25 | 180.25 | 289.75 | 160.25 | 190.75 | 335.25
24 | 94.75 | 113.75 | 144.50 | 185.50 | 298.25 | 164.50 | 196.00 | 342.50
25 | 97.00 | 116.00 | 147.50 | 190.75 | 305.75 | 168.75 | 201.25 | 351.00
26 | 99.00 | 119.00 | 150.75 | 196.00 | 314.00 | 172.75 | 206.50 | 358.25
27 | 101.25 | 121.25 | 155.00 | 200.25 | 321.50 | 177.00 | 211.75 | 365.75
28 | 103.25 | 124.25 | 158.00 | 205.50 | 330.00 | 181.25 | 217.00 | 374.25
29 | 105.50 | 126.50 | 161.25 | 210.75 | 337.25 | 185.50 | 222.50 | 381.50
30 | 108.50 | 130.75 | 166.50 | 218.25 | 348.75 | 191.75 | 227.75 | 393.25
31 | 110.75 | 133.75 | 170.75 | 223.50 | 356.25 | 196.00 | 233.00 | 401.50
32 | 112.75 | 136.00 | 174.00 | 228.75 | 364.75 | 200.25 | 238.25 | 409.00
33 | 115.00 | 138.00 | 178.25 | 234.00 | 372.00 | 204.50 | 243.50 | 417.50
34 | 118.00 | 139.25 | 181.25 | 239.25 | 380.50 | 208.75 | 248.75 | 424.75
35 | 120.25 | 141.25 | 184.50 | 244.50 | 389.00 | 213.00 | 254.00 | 433.25
36 | 122.25 | 143.25 | 188.75 | 248.75 | 396.25 | 217.00 | 259.25 | 440.50
37 | 124.25 | 145.50 | 191.75 | 254.00 | 404.75 | 221.25 | 264.50 | 449.00
38 | 126.50 | 147.50 | 196.00 | 259.25 | 412.00 | 225.50 | 269.75 | 456.50
39 | 128.50 | 149.75 | 199.25 | 264.50 | 419.50 | 229.75 | 275.00 | 463.75
40 | 130.75 | 151.75 | 202.25 | 269.75 | 425.75 | 234.00 | 280.25 | 472.25
41 | 132.75 | 154.00 | 206.50 | 275.00 | 433.25 | 238.25 | 285.75 | 479.50
42 | 137.00 | 156.00 | 209.75 | 280.25 | 440.50 | 242.50 | 291.00 | 488.00
43 | 139.25 | 158.00 | 214.00 | 285.75 | 448.00 | 246.75 | 296.25 | 495.50
44 | 141.25 | 159.25 | 217.00 | 291.00 | 455.25 | 250.75 | 301.50 | 503.75
45 | 144.50 | 161.25 | 221.25 | 295.00 | 462.75 | 255.00 | 306.75 | 511.25
46 | 146.50 | 163.25 | 224.50 | 300.50 | 470.00 | 259.25 | 312.00 | 518.50
47 | 148.50 | 164.50 | 227.75 | 305.75 | 476.50 | 263.50 | 317.25 | 527.00
48 | 150.75 | 166.50 | 232.00 | 311.00 | 483.75 | 267.75 | 322.50 | 534.50
49 | 154.00 | 168.75 | 235.00 | 316.25 | 491.25 | 272.00 | 327.75 | 542.75
50 | 156.00 | 171.75 | 241.25 | 324.75 | 503.75 | 278.25 | 333.00 | 556.50
51 | 160.25 | 174.00 | 244.50 | 330.00 | 511.25 | 278.25 | 338.25 | 572.25
52 | 162.25 | 176.00 | 248.75 | 335.25 | 518.50 | 286.75 | 343.50 | 572.25
53 | 164.50 | 178.25 | 252.00 | 340.50 | 526.00 | 291.00 | 348.75 | 589.25
54 | 167.50 | 179.25 | 256.00 | 345.75 | 533.25 | 295.00 | 354.25 | 589.25
55 | 168.75 | 181.25 | 259.25 | 351.00 | 540.75 | 298.25 | 359.50 | 603.00
56 | 170.75 | 182.25 | 263.50 | 356.25 | 548.00 | 303.50 | 364.75 | 603.00
57 | 171.75 | 184.50 | 266.75 | 361.50 | 555.50 | 306.75 | 370.00 | 615.50
58 | 172.75 | 185.50 | 269.75 | 366.75 | 561.75 | 312.00 | 375.25 | 615.50
59 | 175.00 | 187.50 | 274.00 | 372.00 | 569.25 | 315.25 | 380.50 | 629.25
60 | 176.00 | 189.75 | 277.25 | 377.25 | 576.50 | 320.50 | 385.75 | 629.25
61 | 178.25 | 190.75 | 281.50 | 382.50 | 584.00 | 323.50 | 391.00 | 645.00
62 | 179.25 | 191.75 | 284.50 | 386.75 | 590.25 | 330.00 | 396.25 | 645.00
63 | 180.25 | 194.00 | 288.75 | 392.00 | 598.75 | 332.00 | 401.50 | 660.75
64 | 181.25 | 195.00 | 292.00 | 397.25 | 601.75 | 338.25 | 406.75 | 660.75
65 | 182.25 | 197.00 | 296.25 | 402.75 | 613.50 | 340.50 | 412.00 | 676.75
66 | 183.50 | 198.25 | 299.25 | 408.00 | 613.50 | 346.75 | 417.50 | 676.75
67 | 184.50 | 200.25 | 302.50 | 413.25 | 625.00 | 348.75 | 422.75 | 692.50
68 | 185.50 | 202.25 | 306.75 | 418.50 | 627.25 | 355.25 | 428.00 | 692.50
69 | 186.50 | 203.50 | 310.00 | 423.75 | 636.50 | 357.25 | 433.25 | 708.25
70 | 187.50 | 204.50 | 314.00 | 429.00 | 636.50 | 363.75 | 438.50 | 708.25

Global Express Guaranteed—Non-Document Service Rates/Groups
Weight not over (lbs.) | Group 1 | Group 2 | Group 3 | Group 4 | Group 5 | Group 6 | Group 7 | Group 8
1 | $38.00 | $40.00 | $46.50 | $50.50 | $62.25 | $54.75 | $58.00 | $86.50
2 | 43.25 | 47.50 | 53.75 | 58.00 | 76.00 | 63.25 | 61.25 | 101.25
3 | 46.50 | 53.75 | 61.25 | 67.50 | 90.75 | 70.50 | 66.50 | 115.00
4 | 49.50 | 58.00 | 68.50 | 74.75 | 105.50 | 77.00 | 73.75 | 126.50
5 | 52.75 | 63.25 | 76.00 | 82.25 | 119.00 | 84.25 | 81.25 | 141.25
6 | 54.75 | 66.50 | 81.25 | 89.50 | 132.75 | 89.50 | 88.50 | 154.00
7 | 58.00 | 69.50 | 85.25 | 96.00 | 145.50 | 96.00 | 96.00 | 166.50
8 | 60.00 | 74.75 | 90.75 | 103.25 | 158.00 | 101.25 | 103.25 | 179.25
9 | 62.25 | 78.00 | 96.00 | 110.75 | 171.75 | 106.50 | 110.75 | 191.75
10 | 65.25 | 81.25 | 100.25 | 117.00 | 186.50 | 112.75 | 118.00 | 200.25
11 | 67.50 | 84.25 | 105.50 | 122.25 | 197.00 | 118.00 | 124.25 | 217.00
12 | 69.50 | 87.50 | 109.50 | 128.50 | 207.75 | 122.25 | 129.75 | 229.75
13 | 72.75 | 90.75 | 112.75 | 133.75 | 218.25 | 126.50 | 136.00 | 242.50
14 | 74.75 | 92.75 | 117.00 | 139.25 | 228.75 | 130.75 | 141.25 | 254.00
15 | 77.00 | 96.00 | 120.25 | 144.50 | 241.25 | 138.00 | 146.50 | 266.75
16 | 80.00 | 99.00 | 123.25 | 150.75 | 250.75 | 142.25 | 151.75 | 278.25
17 | 82.25 | 102.25 | 127.50 | 156.00 | 259.25 | 146.50 | 157.00 | 289.75
18 | 84.25 | 105.50 | 130.75 | 161.25 | 266.75 | 150.75 | 163.25 | 301.50
19 | 87.50 | 108.50 | 135.00 | 166.50 | 275.00 | 155.00 | 169.75 | 313.00
20 | 91.75 | 112.75 | 138.00 | 174.00 | 282.50 | 159.25 | 176.00 | 324.75
21 | 93.75 | 116.00 | 141.25 | 179.25 | 289.75 | 162.25 | 182.25 | 334.00
22 | 96.00 | 118.00 | 145.50 | 184.50 | 298.25 | 166.50 | 187.50 | 343.50
23 | 98.00 | 121.25 | 148.50 | 189.75 | 305.75 | 170.75 | 193.00 | 351.00
24 | 101.25 | 124.25 | 152.75 | 195.00 | 314.00 | 175.00 | 198.25 | 358.25
25 | 103.25 | 126.50 | 156.00 | 200.25 | 321.50 | 179.25 | 203.50 | 366.75
26 | 105.50 | 128.50 | 161.25 | 205.50 | 330.00 | 183.50 | 208.75 | 374.25
27 | 107.50 | 129.75 | 165.50 | 209.75 | 337.25 | 187.50 | 214.00 | 381.50
28 | 109.50 | 132.75 | 168.75 | 215.00 | 345.75 | 191.75 | 219.25 | 390.00
29 | 111.75 | 135.00 | 171.75 | 220.25 | 353.00 | 196.00 | 224.50 | 397.25
30 | 115.00 | 139.25 | 177.00 | 227.75 | 364.75 | 202.25 | 229.75 | 409.00
31 | 117.00 | 142.25 | 181.25 | 233.00 | 372.00 | 206.50 | 235.00 | 417.50
32 | 119.00 | 144.50 | 184.50 | 238.25 | 380.50 | 210.75 | 240.25 | 424.75
33 | 121.25 | 146.50 | 188.75 | 243.50 | 387.75 | 215.00 | 245.50 | 433.25
34 | 124.25 | 148.50 | 191.75 | 248.75 | 396.25 | 219.25 | 250.75 | 440.50
35 | 126.50 | 150.75 | 195.00 | 254.00 | 404.75 | 223.50 | 256.00 | 454.25
36 | 128.50 | 152.75 | 199.25 | 258.25 | 412.00 | 227.75 | 261.50 | 461.75
37 | 130.75 | 155.00 | 202.25 | 263.50 | 420.50 | 232.00 | 266.75 | 470.00
38 | 132.75 | 157.00 | 206.50 | 268.75 | 428.00 | 236.00 | 272.00 | 477.50
39 | 135.00 | 159.25 | 209.75 | 274.00 | 435.25 | 240.25 | 277.25 | 484.75
40 | 137.00 | 161.25 | 213.00 | 282.50 | 441.75 | 244.50 | 282.50 | 493.25
41 | 139.25 | 163.25 | 217.00 | 287.75 | 449.00 | 248.75 | 287.75 | 500.75
42 | 143.25 | 165.50 | 220.25 | 293.00 | 456.50 | 253.00 | 293.00 | 509.00
43 | 145.50 | 167.50 | 224.50 | 298.25 | 463.75 | 257.25 | 298.25 | 516.50
44 | 147.50 | 168.75 | 227.75 | 303.50 | 471.25 | 261.50 | 303.50 | 525.00
45 | 150.75 | 170.75 | 232.00 | 311.00 | 478.50 | 265.50 | 308.75 | 532.25
46 | 152.75 | 172.75 | 235.00 | 316.25 | 486.00 | 269.75 | 314.00 | 534.50
47 | 155.00 | 174.00 | 238.25 | 321.50 | 492.25 | 274.00 | 319.25 | 542.75
48 | 157.00 | 176.00 | 242.50 | 326.75 | 499.50 | 278.25 | 324.75 | 550.25
49 | 159.25 | 178.25 | 245.50 | 332.00 | 507.00 | 282.50 | 330.00 | 558.50
50 | 160.25 | 181.25 | 252.00 | 337.25 | 519.50 | 288.75 | 335.25 | 572.25
51 | 164.50 | 183.50 | 255.00 | 342.50 | 525.00 | 291.00 | 340.50 | 588.25
52 | 166.50 | 185.50 | 259.25 | 347.75 | 532.25 | 297.25 | 345.75 | 588.25
53 | 168.75 | 187.50 | 262.50 | 353.00 | 539.75 | 301.50 | 351.00 | 605.00
54 | 171.75 | 188.75 | 266.75 | 358.25 | 547.00 | 305.75 | 356.25 | 605.00
55 | 172.75 | 190.75 | 269.75 | 363.75 | 554.50 | 308.75 | 361.50 | 618.75
56 | 175.00 | 191.75 | 274.00 | 369.00 | 561.75 | 314.00 | 366.75 | 618.75
57 | 176.00 | 194.00 | 277.25 | 374.25 | 569.25 | 317.25 | 372.00 | 631.25
58 | 177.00 | 195.00 | 280.25 | 379.50 | 575.50 | 322.50 | 377.25 | 631.25
59 | 179.25 | 197.00 | 284.50 | 384.75 | 582.75 | 325.75 | 382.50 | 645.00
60 | 179.25 | 199.25 | 287.75 | 390.00 | 590.25 | 331.00 | 387.75 | 645.00
61 | 181.25 | 203.50 | 292.00 | 395.25 | 597.50 | 334.00 | 393.25 | 660.75
62 | 182.25 | 204.50 | 295.00 | 399.50 | 604.00 | 340.50 | 398.50 | 660.75
63 | 183.50 | 206.50 | 299.25 | 404.75 | 612.25 | 342.50 | 403.75 | 676.75
64 | 184.50 | 207.75 | 302.50 | 410.00 | 615.50 | 348.75 | 409.00 | 676.75
65 | 185.50 | 209.75 | 306.75 | 415.25 | 627.25 | 351.00 | 414.25 | 692.50
66 | 186.50 | 210.75 | 310.00 | 420.50 | 627.25 | 357.25 | 419.50 | 692.50
67 | 187.50 | 213.00 | 313.00 | 425.75 | 638.75 | 359.50 | 424.75 | 708.25
68 | 188.75 | 215.00 | 317.25 | 431.00 | 640.75 | 365.75 | 430.00 | 708.25
69 | 189.75 | 216.00 | 320.50 | 436.25 | 650.25 | 367.75 | 435.25 | 724.00
70 | 190.75 | 217.00 | 324.75 | 441.75 | 650.25 | 374.25 | 440.50 | 724.00

Global Express Mail
Weight not over (lbs.) | Group 1 | Group 2 | Group 3 | Group 4 | Group 5 | Group 6 | Group 7
0.5 | $16.25 | $17.75 | $21.00 | $18.25 | $20.00 | $18.00 | $24.25
1 | 17.15 | 21.10 | 26.10 | 22.55 | 24.00 | 20.20 | 27.40
2 | 17.90 | 25.00 | 30.30 | 26.85 | 27.45 | 22.80 | 30.55
3 | 19.25 | 29.10 | 34.50 | 31.15 | 32.15 | 26.30 | 33.75
4 | 20.30 | 32.80 | 37.70 | 35.45 | 36.80 | 29.65 | 36.90
5 | 21.60 | 36.05 | 40.85 | 39.45 | 41.30 | 33.55 | 40.05
6 | 24.00 | 38.35 | 44.00 | 43.00 | 45.80 | 36.85 | 43.40
7 | 26.35 | 40.70 | 47.15 | 46.55 | 50.30 | 40.10 | 46.80
8 | 28.70 | 43.00 | 50.35 | 50.10 | 54.75 | 43.35 | 50.15
9 | 31.10 | 45.30 | 53.50 | 53.65 | 59.25 | 46.65 | 53.55
10 | 33.45 | 47.65 | 56.65 | 57.20 | 63.70 | 49.90 | 56.90
11 | 35.85 | 49.95 | 59.80 | 60.75 | 68.20 | 53.15 | 60.30
12 | 38.20 | 52.30 | 63.00 | 64.30 | 72.65 | 56.45 | 63.65
13 | 40.60 | 54.60 | 66.15 | 67.80 | 77.15 | 59.70 | 67.05
14 | 42.95 | 56.90 | 69.30 | 71.35 | 81.65 | 63.00 | 70.40
15 | 45.30 | 59.25 | 72.45 | 74.90 | 86.10 | 66.25 | 73.80
16 | 47.70 | 61.55 | 75.60 | 78.45 | 90.60 | 69.50 | 77.15
17 | 50.05 | 63.85 | 78.80 | 82.00 | 95.05 | 72.80 | 80.55
18 | 52.45 | 66.20 | 81.95 | 85.55 | 99.55 | 76.05 | 83.90
19 | 54.80 | 68.50 | 85.10 | 89.10 | 104.05 | 79.30 | 87.25
20 | 57.20 | 70.85 | 88.25 | 92.65 | 108.50 | 82.60 | 90.65
21 | 59.55 | 73.15 | 91.45 | 96.20 | 113.00 | 85.85 | 94.00
22 | 61.90 | 75.45 | 94.60 | 99.70 | 117.45 | 89.10 | 97.40
23 | 64.30 | 77.80 | 97.75 | 103.25 | 121.95 | 92.40 | 100.75
24 | 66.65 | 80.10 | 100.90 | 106.80 | 126.45 | 95.65 | 104.15
25 | 69.05 | 82.40 | 104.10 | 110.35 | 130.90 | 98.90 | 107.50
26 | 71.40 | 84.75 | 107.25 | 113.90 | 135.40 | 102.20 | 110.90
27 | 73.80 | 87.05 | 110.40 | 117.45 | 139.85 | 105.45 | 114.25
28 | 76.15 | 89.40 | 113.55 | 121.00 | 144.35 | 108.70 | 117.65
29 | 78.50 | 91.70 | 116.75 | 124.55 | 148.80 | 112.00 | 121.00
30 | 80.90 | 94.00 | 119.90 | 128.05 | 153.30 | 115.25 | 124.35
31 | 83.25 | 96.35 | 123.05 | 131.60 | 157.80 | 118.50 | 127.75
32 | 85.65 | 98.65 | 126.20 | 135.15 | 162.25 | 121.80 | 131.10
33 | 88.00 | 100.95 | 129.40 | 138.70 | 166.75 | 125.05 | 134.50
34 | 90.40 | 103.30 | 132.55 | 142.25 | 171.20 | 128.30 | 137.85
35 | 92.75 | 105.60 | 135.70 | 145.80 | 175.70 | 131.60 | 141.25
36 | 95.10 | 107.95 | 138.85 | 149.35 | 180.20 | 134.85 | 144.60
37 | 97.50 | 110.25 | 142.05 | 152.90 | 184.65 | 138.15 | 148.00
38 | 99.85 | 112.55 | 145.20 | 156.45 | 189.15 | 141.40 | 151.35
39 | 102.25 | 114.90 | 148.35 | 159.95 | 193.60 | 144.65 | 154.75
40 | 104.60 | 117.20 | 151.50 | 163.50 | 198.10 | 147.95 | 158.10
41 | 107.00 | 119.50 | 154.65 | 167.05 | 202.60 | 151.20 | 161.45
42 | 109.35 | 121.85 | 157.85 | 170.60 | 207.05 | 154.45 | 164.85
43 | 111.70 | 124.15 | 161.00 | 174.15 | 211.55 | 157.75 | 168.20
44 | 114.10 | 126.50 | 164.15 | 177.70 | 216.00 | 161.00 | 171.60
45 | 116.45 | 128.80 | 167.30 | 181.25 | 220.50 | 164.25 | 174.95
46 | 118.85 | 131.10 | 170.50 | 184.80 | 225.00 | 167.55 | 178.35
47 | 121.20 | 133.45 | 173.65 | 188.35 | 229.45 | 170.80 | 181.70
48 | 123.60 | 135.75 | 176.80 | 191.85 | 233.95 | 174.05 | 185.10
49 | 125.95 | 138.05 | 179.95 | 195.40 | 238.40 | 177.35 | 188.45
50 | 128.30 | 140.40 | 183.15 | 198.95 | 242.90 | 180.60 | 191.85
51 | 130.70 | 142.70 | 186.30 | 202.50 | 247.35 | 183.85 | 195.20
52 | 133.05 | 145.05 | 189.45 | 206.05 | 251.85 | 187.15 | 198.55
53 | 135.45 | 147.35 | 192.60 | 209.60 | 256.35 | 190.40 | 201.95
54 | 137.80 | 149.65 | 195.80 | 213.15 | 260.80 | 193.65 | 205.30
55 | 140.20 | 152.00 | 198.95 | 216.70 | 265.30 | 196.95 | 208.70
56 | 142.55 | 154.30 | 202.10 | 220.20 | 269.75 | 200.20 | 212.05
57 | 144.95 | 156.60 | 205.25 | 223.75 | 274.25 | 203.45 | 215.45
58 | 147.30 | 158.95 | 208.45 | 227.30 | 278.75 | 206.75 | 218.80
59 | 149.65 | 161.25 | 211.60 | 230.85 | 283.20 | 210.00 | 222.20
60 | 152.05 | 163.60 | 214.75 | 234.40 | 287.70 | 213.30 | 225.55
61 | 154.40 | 165.90 | 217.90 | 237.95 | 292.15 | 216.55 | 228.95
62 | 156.80 | 168.20 | 221.10 | 241.50 | 296.65 | 219.80 | 232.30
63 | 159.15 | 170.55 | 224.25 | 245.05 | 301.15 | 223.10 | 235.65
64 | 161.55 | 172.85 | 227.40 | 248.60 | 305.60 | 226.35 | 239.05
65 | 163.90 | 175.15 | 230.55 | 252.10 | 310.10 | 229.60 | 242.40
66 | 166.25 | 177.50 | 233.70 | 255.65 | 314.55 | 232.90 | 245.80
67 | N/A | N/A | N/A | N/A | N/A | 235.65 | 249.55
68 | N/A | N/A | N/A | N/A | N/A | 238.40 | 253.30
69 | N/A | N/A | N/A | N/A | N/A | 241.15 | 257.05
70 | N/A | N/A | N/A | N/A | N/A | 243.90 | 260.80

Global Express Mail
Weight not over (lbs.) | Group 8 | Group 9 | Group 10 | Group 11 | Group 12
0.5 | $18.00 | $20.00 | $24.00 | $30.00 | $23.50
1 | 21.60 | 23.20 | 26.60 | 32.95 | 26.10
2 | 25.30 | 27.40 | 29.80 | 37.40 | 29.50
3 | 29.50 | 31.60 | 34.25 | 42.70 | 33.75
4 | 33.75 | 36.90 | 38.45 | 47.15 | 37.95
5 | 37.95 | 42.15 | 42.95 | 52.45 | 42.15
6 | 42.35 | 47.05 | 47.45 | 57.45 | 46.40
7 | 46.80 | 51.95 | 51.90 | 62.45 | 50.60
8 | 51.20 | 56.85 | 56.40 | 67.45 | 54.80
9 | 55.65 | 61.75 | 60.85 | 72.45 | 59.00
10 | 60.10 | 66.65 | 65.35 | 77.45 | 63.25
11 | 64.50 | 71.55 | 69.85 | 82.50 | 67.45
12 | 68.95 | 76.45 | 74.30 | 87.50 | 71.65
13 | 73.35 | 81.35 | 78.80 | 92.50 | 75.90
14 | 77.80 | 86.25 | 83.25 | 97.50 | 80.10
15 | 82.20 | 91.15 | 87.75 | 102.50 | 84.30
16 | 86.65 | 96.05 | 92.25 | 107.50 | 88.55
17 | 91.05 | 100.95 | 96.70 | 112.50 | 92.75
18 | 95.50 | 105.85 | 101.20 | 117.50 | 96.95
19 | 99.90 | 110.80 | 105.65 | 122.55 | 101.20
20 | 104.35 | 115.70 | 110.15 | 127.55 | 105.40
21 | 108.75 | 120.60 | 114.60 | 132.55 | 109.60
22 | 113.20 | 125.50 | 119.10 | 137.55 | 113.85
23 | 117.65 | 130.40 | 123.60 | 142.55 | 118.05
24 | 122.05 | 135.30 | 128.05 | 147.55 | 122.25
25 | 126.50 | 140.20 | 132.55 | 152.55 | 126.50
26 | 130.90 | 145.10 | 137.00 | 157.55 | 130.70
27 | 135.35 | 150.00 | 141.50 | 162.60 | 134.90
28 | 139.75 | 154.90 | 146.00 | 167.60 | 139.15
29 | 144.20 | 159.80 | 150.45 | 172.60 | 143.35
30 | 148.60 | 164.70 | 154.95 | 177.60 | 147.55
31 | 153.05 | 169.60 | 159.40 | 182.60 | 151.80
32 | 157.45 | 174.50 | 163.90 | 187.60 | 156.00
33 | 161.90 | 179.40 | 168.40 | 192.60 | 160.20
34 | 166.30 | 184.30 | 172.85 | 197.65 | 164.40
35 | 170.75 | 189.20 | 177.35 | 202.65 | 168.65
36 | 175.15 | 194.10 | 181.80 | 207.65 | 172.85
37 | 179.60 | 199.00 | 186.30 | 212.65 | 177.05
38 | 184.05 | 203.90 | 190.75 | 217.65 | 181.30
39 | 188.45 | 208.80 | 195.25 | 222.65 | 185.50
40 | 192.90 | 213.70 | 199.75 | 227.65 | 189.70
41 | 197.30 | 218.60 | 204.20 | 232.65 | 193.95
42 | 201.75 | 223.50 | 208.70 | 237.70 | 198.15
43 | 206.15 | 228.40 | 213.15 | 242.70 | 202.35
44 | 210.60 | 233.30 | 217.65 | 247.70 | 206.60
45 | 215.00 | 238.20 | 222.15 | 252.70 | 210.80
46 | 219.45 | 243.10 | 226.60 | 257.70 | 215.00
47 | 223.85 | 248.00 | 231.10 | 262.70 | 219.25
48 | 228.30 | 252.90 | 235.55 | 267.70 | 223.45
49 | 232.70 | 257.80 | 240.05 | 272.70 | 227.65
50 | 237.15 | 262.70 | 244.55 | 277.75 | 231.90
51 | 241.60 | 267.60 | 249.00 | 282.75 | 236.10
52 | 246.00 | 272.50 | 253.50 | 287.75 | 240.30
53 | 250.45 | 277.40 | 257.95 | 292.75 | 244.55
54 | 254.85 | 282.30 | 262.45 | 297.75 | 248.75
55 | 259.30 | 287.20 | 266.95 | 302.75 | 252.95
56 | 263.70 | 292.10 | 271.40 | 307.75 | 257.20
57 | 268.15 | 297.00 | 275.90 | 312.75 | 261.40
58 | 272.55 | 301.90 | 280.35 | 317.80 | 265.60
59 | 277.00 | 306.80 | 284.85 | 322.80 | 269.80
60 | 281.40 | 311.70 | 289.30 | 327.80 | 274.05
61 | 285.85 | 316.60 | 293.80 | 332.80 | 278.25
62 | 290.25 | 321.50 | 298.30 | 337.80 | 282.45
63 | 294.70 | 326.40 | 302.75 | 342.80 | 286.70
64 | 299.15 | 331.30 | 307.25 | 347.80 | 290.90
65 | 303.55 | 336.25 | 311.70 | 352.85 | 295.10
66 | 308.00 | 341.15 | 316.20 | 357.85 | 299.35
67 | 313.00 | 346.15 | 320.95 | 363.10 | 303.85
68 | 318.00 | 351.15 | 325.70 | 368.35 | 308.35
69 | 323.00 | 356.15 | 330.45 | 373.60 | 312.85
70 | 328.00 | 361.15 | 335.20 | 378.85 | 317.35
EMS corporate account: 5 percent discount from single-piece rates.

Global Priority Mail—Flat-Rate Envelope
Destination | Small | Large
Canada and Mexico | $4.25 | $7.50
Other Countries | 5.25 | 9.50

Global Priority Mail—Variable Weight
Weight not over (lbs.) | Group 1 | Group 2 | Group 3 | Group 4 | Group 5
0.5 | $6.25 | $7.50 | $8.50 | $9.50 | $8.50
1 | 8.50 | 9.50 | 10.50 | 11.50 | 12.75
1.5 | 9.50 | 10.50 | 12.75 | 13.75 | 14.75
2 | 11.50 | 13.75 | 15.75 | 16.75 | 18.00
2.5 | 12.75 | 16.75 | 19.00 | 20.00 | 22.25
3 | 14.75 | 20.00 | 22.25 | 23.25 | 25.25
3.5 | 16.75 | 23.25 | 24.25 | 25.25 | 29.50
4 | 19.00 | 26.25 | 27.50 | 28.50 | 32.75

Aerogrammes
All Countries | $0.75

Postal Cards and Postcards
Canada & Mexico | Other countries | Republic of Marshall Islands and Federated States of Micronesia
$0.55 | $0.75 | $0.34

Airmail Letter-Post
Weight not over (ozs.) | Group 1 | Group 2 | Group 3 | Group 4 | Group 5
1 | $0.63 | $0.63 | $0.84 | $0.84 | $0.84
2 | 0.90 | 0.90 | 1.70 | 1.80 | 1.65
3 | 1.15 | 1.30 | 2.55 | 2.75 | 2.40
4 | 1.40 | 1.75 | 3.35 | 3.70 | 3.20
5 | 1.70 | 2.15 | 4.20 | 4.65 | 4.00
6 | 1.95 | 2.60 | 5.05 | 5.60 | 4.80
7 | 2.20 | 3.00 | 5.90 | 6.55 | 5.60
8 | 2.50 | 3.45 | 6.75 | 7.50 | 6.40
12 | 3.25 | 4.20 | 7.95 | 8.85 | 8.05
16 | 3.95 | 5.45 | 9.15 | 10.20 | 9.75
20 | 4.65 | 6.65 | 10.40 | 11.60 | 11.45
24 | 5.30 | 7.85 | 11.60 | 12.95 | 13.10
28 | 6.00 | 9.05 | 12.80 | 14.35 | 14.80
32 | 6.70 | 10.30 | 14.00 | 15.70 | 16.50
36 | 7.40 | 11.55 | 15.30 | 17.15 | 18.30
40 | 8.05 | 12.80 | 16.55 | 18.55 | 20.10
44 | 8.75 | 14.05 | 17.80 | 19.95 | 21.85
48 | 9.45 | 15.35 | 19.10 | 21.40 | 23.65
52 | 10.15 | 16.65 | 20.40 | 22.85 | 25.50
56 | 10.90 | 17.95 | 21.70 | 24.35 | 27.35
60 | 11.65 | 19.30 | 23.05 | 25.80 | 29.20
64 | 12.40 | 20.60 | 24.35 | 27.30 | 31.05

Airmail Parcel Post
Weight not over (lbs.) | Group 1 | Group 2 | Group 3 | Group 4 | Group 5 | Group 6 | Group 7
1 | $14.00 | $13.75 | $16.75 | $17.25 | $16.00 | $14.75 | $17.50
2 | 14.00 | 16.35 | 21.10 | 21.60 | 20.80 | 16.35 | 20.05
3 | 15.00 | 18.70 | 25.30 | 25.80 | 25.80 | 18.45 | 22.90
4 | 16.35 | 21.35 | 29.50 | 30.55 | 31.35 | 21.35 | 25.80
5 | 17.65 | 24.25 | 33.75 | 35.30 | 36.90 | 24.00 | 28.70
6 | 18.80 | 26.35 | 36.90 | 38.80 | 41.35 | 27.05 | 31.90
7 | 19.95 | 28.45 | 40.05 | 42.25 | 45.85 | 30.10 | 35.05
8 | 21.15 | 30.55 | 43.20 | 45.75 | 50.35 | 33.15 | 38.20
9 | 22.30 | 32.65 | 46.40 | 49.20 | 54.80 | 36.20 | 41.35
10 | 23.45 | 34.80 | 49.55 | 52.70 | 59.30 | 39.25 | 44.55
11 | 24.60 | 36.90 | 52.70 | 56.20 | 63.75 | 42.30 | 47.70
12 | 25.75 | 39.00 | 55.85 | 59.65 | 68.25 | 45.35 | 50.85
13 | 26.95 | 41.10 | 59.00 | 63.15 | 72.75 | 48.45 | 54.00
14 | 28.10 | 43.20 | 62.20 | 66.60 | 77.20 | 51.50 | 57.20
15 | 29.25 | 45.30 | 65.35 | 70.10 | 81.70 | 54.55 | 60.35
16 | 30.40 | 47.45 | 68.50 | 73.55 | 86.15 | 57.60 | 63.50
17 | 31.55 | 49.55 | 71.65 | 77.05 | 90.65 | 60.65 | 66.65
18 | 32.75 | 51.65 | 74.85 | 80.55 | 95.10 | 63.70 | 69.85
19 | 33.90 | 53.75 | 78.00 | 84.00 | 99.60 | 66.75 | 73.00
20 | 35.05 | 55.85 | 81.15 | 87.50 | 104.10 | 69.85 | 76.15
21 | 36.20 | 57.95 | 84.30 | 90.95 | 108.55 | 72.90 | 79.30
22 | 37.35 | 60.10 | 87.50 | 94.45 | 113.05 | 75.95 | 82.50
23 | 38.50 | 62.20 | 90.65 | 97.90 | 117.50 | 79.00 | 85.65
24 | 39.70 | 64.30 | 93.80 | 101.40 | 122.00 | 82.05 | 88.80
25 | 40.85 | 66.40 | 96.95 | 104.85 | 126.50 | 85.10 | 91.95
26 | 42.00 | 68.50 | 100.15 | 108.35 | 130.95 | 88.15 | 95.10
27 | 43.15 | 70.60 | 103.30 | 111.85 | 135.45 | 91.20 | 98.30
28 | 44.30 | 72.75 | 106.45 | 115.30 | 139.90 | 94.30 | 101.45
29 | 45.50 | 74.85 | 109.60 | 118.80 | 144.40 | 97.35 | 104.60
30 | 46.65 | 76.95 | 112.80 | 122.25 | 148.90 | 100.40 | 107.75
31 | 47.80 | 79.05 | 115.95 | 125.75 | 153.35 | 103.45 | 110.95
32 | 48.95 | 81.15 | 119.10 | 129.20 | 157.85 | 106.50 | 114.10
33 | 50.10 | 83.25 | 122.25 | 132.70 | 162.30 | 109.55 | 117.25
34 | 51.30 | 85.35 | 125.45 | 136.20 | 166.80 | 112.60 | 120.40
35 | 52.45 | 87.50 | 128.60 | 139.65 | 171.30 | 115.70 | 123.60
36 | 53.60 | 89.60 | 131.75 | 143.15 | 175.75 | 118.75 | 126.75
37 | 54.75 | 91.70 | 134.90 | 146.60 | 180.25 | 121.80 | 129.90
38 | 55.90 | 93.80 | 138.05 | 150.10 | 184.70 | 124.85 | 133.05
39 | 57.05 | 95.90 | 141.25 | 153.55 | 189.20 | 127.90 | 136.25
40 | 58.25 | 98.00 | 144.40 | 157.05 | 193.65 | 130.95 | 139.40
41 | 59.40 | 100.15 | 147.55 | 160.50 | 198.15 | 134.00 | 142.55
42 | 60.55 | 102.25 | 150.70 | 164.00 | 202.65 | 137.05 | 145.70
43 | 61.70 | 104.35 | 153.90 | 167.50 | 207.10 | 140.15 | 148.90
44 | 62.85 | 106.45 | 157.05 | 170.95 | 211.60 | 143.20 | 152.05
45 | 64.05 | N/A | 160.20 | 174.45 | 216.05 | 146.25 | 155.20
46 | 65.20 | N/A | 163.35 | 177.90 | 220.55 | 149.30 | 158.35
47 | 66.35 | N/A | 166.55 | 181.40 | 225.05 | 152.35 | 161.55
48 | 67.50 | N/A | 169.70 | 184.85 | 229.50 | 155.40 | 164.70
49 | 68.65 | N/A | 172.85 | 188.35 | 234.00 | 158.45 | 167.85
50 | 69.85 | N/A | 176.00 | 191.85 | 238.45 | 161.55 | 171.00
51 | 71.00 | N/A | 179.20 | 195.30 | 242.95 | 164.60 | 174.15
52 | 72.15 | N/A | 182.35 | 198.80 | 247.45 | 167.65 | 177.35
53 | 73.30 | N/A | 185.50 | 202.25 | 251.90 | 170.70 | 180.50
54 | 74.45 | N/A | 188.65 | 205.75 | 256.40 | 173.75 | 183.65
55 | 75.60 | N/A | 191.85 | 209.20 | 260.85 | 176.80 | 186.80
56 | 76.80 | N/A | 195.00 | 212.70 | 265.35 | 179.85 | 190.00
57 | 77.95 | N/A | 198.15 | 216.20 | 269.80 | 182.90 | 193.15
58 | 79.10 | N/A | 201.30 | 219.65 | 274.30 | 186.00 | 196.30
59 | 80.25 | N/A | 204.50 | 223.15 | 278.80 | 189.05 | 199.45
60 | 81.40 | N/A | 207.65 | 226.60 | 283.25 | 192.10 | 202.65
61 | 82.60 | N/A | 210.80 | 230.10 | 287.75 | 195.15 | 205.80
62 | 83.75 | N/A | 213.95 | 233.55 | 292.20 | 198.20 | 208.95
63 | 84.90 | N/A | 217.10 | 237.05 | 296.70 | 201.25 | 212.10
64 | 86.05 | N/A | 220.30 | 240.50 | 301.20 | 204.30 | 215.30
65 | 87.20 | N/A | 223.45 | 244.00 | 305.65 | 207.35 | 218.45
66 | 88.40 | N/A | 226.60 | 247.50 | 310.15 | 210.45 | 221.60
67 | N/A | N/A | N/A | N/A | 314.60 | 213.50 | 224.75
68 | N/A | N/A | N/A | N/A | 319.10 | 216.55 | 227.95
69 | N/A | N/A | N/A | N/A | 323.60 | 219.60 | 231.10
70 | N/A | N/A | N/A | N/A | 328.05 | 222.65 | 234.25

Airmail Parcl Post
Weight not over (lbs.) | Group 8 | Group 9 | Group 10 | Group 11 | Group 12 | Group 13
1 | $13.25 | $15.25 | $16.75 | $19.00 | $14.75 | $18.00
2 | 16.85 | 19.75 | 19.50 | 23.20 | 16.35 | 20.05
3 | 21.10 | 24.50 | 22.65 | 27.40 | 18.20 | 23.20
4 | 25.55 | 28.20 | 25.30 | 31.60 | 20.30 | 26.35
5 | 30.30 | 34.50 | 27.95 | 35.85 | 22.40 | 29.50
6 | 34.40 | 38.45 | 31.10 | 39.50 | 25.05 | 32.95
7 | 38.50 | 42.60 | 34.25 | 43.20 | 27.65 | 36.35
8 | 42.65 | 46.70 | 37.40 | 46.90 | 30.30 | 39.80
9 | 46.75 | 50.80 | 40.60 | 50.60 | 32.95 | 43.20
10 | 50.85 | 54.90 | 43.75 | 54.30 | 35.55 | 46.65
11 | 54.95 | 59.00 | 46.90 | 57.95 | 38.20 | 50.05
12 | 59.10 | 63.15 | 50.05 | 61.65 | 40.85 | 53.50
13 | 63.20 | 67.25 | 53.25 | 65.35 | 43.50 | 56.90
14 | 67.30 | 71.35 | 56.40 | 69.05 | 46.10 | 60.35
15 | 71.40 | 75.45 | 59.55 | 72.75 | 48.75 | 63.75
16 | 75.50 | 79.60 | 62.70 | 76.40 | 51.40 | 67.20
17 | 79.65 | 83.70 | 65.90 | 80.10 | 54.00 | 70.60
18 | 83.75 | 87.80 | 69.05 | 83.80 | 56.65 | 74.05
19 | 87.85 | 91.90 | 72.20 | 87.50 | 59.30 | 77.45
20 | 91.95 | 96.00 | 75.35 | 91.15 | 61.90 | 80.90
21 | 96.05 | 100.15 | 78.50 | 94.85 | 64.55 | 84.30
22 | 100.20 | 104.25 | 81.70 | 98.55 | 67.20 | 87.75
23 | 104.30 | 108.35 | 84.85 | 102.25 | 69.85 | 91.15
24 | 108.40 | 112.45 | 88.00 | 105.95 | 72.45 | 94.60
25 | 112.50 | 116.55 | 91.15 | 109.60 | 75.10 | 98.00
26 | 116.65 | 120.70 | 94.35 | 113.30 | 77.75 | 101.45
27 | 120.75 | 124.80 | 97.50 | 117.00 | 80.35 | 104.85
28 | 124.85 | 128.90 | 100.65 | 120.70 | 83.00 | 108.30
29 | 128.95 | 133.00 | 103.80 | 124.35 | 85.65 | 111.70
30 | 133.05 | 137.15 | 107.00 | 128.05 | 88.25 | 115.15
31 | 137.20 | 141.25 | 110.15 | 131.75 | 90.90 | 118.60
32 | 141.30 | 145.35 | 113.30 | 135.45 | 93.55 | 122.00
33 | 145.40 | 149.45 | 116.45 | 139.15 | 96.20 | 125.45
34 | 149.50 | 153.55 | 119.65 | 142.80 | 98.80 | 128.85
35 | 153.60 | 157.70 | 122.80 | 146.50 | 101.45 | 132.30
36 | 157.75 | 161.80 | 125.95 | 150.20 | 104.10 | 135.70
37 | 161.85 | 165.90 | 129.10 | 153.90 | 106.70 | 139.15
38 | 165.95 | 170.00 | 132.30 | 157.55 | 109.35 | 142.55
39 | 170.05 | 174.10 | 135.45 | 161.25 | 112.00 | 146.00
40 | 174.15 | 178.25 | 138.60 | 164.95 | 114.60 | 149.40
41 | 178.30 | 182.35 | 141.75 | 168.65 | 117.25 | 152.85
42 | 182.40 | 186.45 | 144.95 | 172.35 | 119.90 | 156.25
43 | 186.50 | 190.55 | 148.10 | 176.00 | 122.55 | 159.70
44 | 190.60 | 194.65 | 151.25 | 179.70 | 125.15 | 163.10
45 | 194.75 | 198.80 | 154.40 | 183.40 | 127.80 | 166.55
46 | 198.85 | 202.90 | 157.55 | 187.10 | 130.45 | 169.95
47 | 202.95 | 207.00 | 160.75 | 190.75 | 133.05 | 173.40
48 | 207.05 | 211.10 | 163.90 | 194.45 | 135.70 | 176.80
49 | 211.15 | 215.25 | 167.05 | 198.15 | 138.35 | 180.25
50 | 215.30 | 219.35 | 170.20 | 201.85 | 140.95 | 183.65
51 | 219.40 | 223.45 | 173.40 | 205.55 | 143.60 | 187.10
52 | 223.50 | 227.55 | 176.55 | 209.20 | 146.25 | 190.50
53 | 227.60 | 231.65 | 179.70 | 212.90 | 148.90 | 193.95
54 | 231.70 | 235.80 | 182.85 | 216.60 | 151.50 | 197.35
55 | 235.85 | 239.90 | 186.05 | 220.30 | 154.15 | 200.80
56 | 239.95 | 244.00 | 189.20 | 224.00 | 156.80 | 204.20
57 | 244.05 | 248.10 | 192.35 | 227.65 | 159.40 | 207.65
58 | 248.15 | 252.20 | 195.50 | 231.35 | 162.05 | 211.05
59 | 252.25 | 256.35 | 198.70 | 235.05 | 164.70 | 214.50
60 | 256.40 | 260.45 | 201.85 | 238.75 | 167.30 | 217.90
61 | 260.50 | 264.55 | 205.00 | 242.40 | 169.95 | 221.35
62 | 264.60 | 268.65 | 208.15 | 246.10 | 172.60 | 224.75
63 | 268.70 | 272.80 | 211.35 | 249.80 | 175.25 | 228.20
64 | 272.85 | 276.90 | 214.50 | 253.50 | 177.85 | 231.60
65 | 276.95 | 281.00 | 217.65 | 257.20 | 180.50 | 235.05
66 | 281.05 | 285.10 | 220.80 | 260.85 | 183.15 | 238.45
67 | 285.15 | 289.20 | 224.00 | 264.55 | 185.75 | 241.90
68 | 289.25 | 293.35 | 227.15 | 268.25 | 188.40 | 245.30
69 | 293.40 | 297.45 | 230.30 | 271.95 | 191.05 | 248.75
70 | 297.50 | 301.55 | 233.45 | 275.60 | 193.65 | 252.15

International Priority Airmail
Rate group | Per piece | Drop shipment per pound | Full service per pound
1 (Canada) | $0.30 | $2.75 | $3.75
2 (Mexico) | 0.13 | 4.85 | 5.85
3 | 0.27 | 4.35 | 5.35
4 | 0.26 | 5.80 | 6.80
5 | 0.13 | 5.10 | 6.10
6 | 0.13 | 5.00 | 6.00
7 | 0.13 | 6.60 | 7.60
8 | 0.13 | 7.65 | 8.65
Worldwide | 0.21 | 7.40 | 8.40

Airmail M-Bags
Weight not over (lbs.) | Group 1 | Group 2 | Group 3 | Group 4 | Group 5
11 | $17.60 | $22.55 | $29.15 | $40.70 | $40.70
Each Additional Pound or Fraction of a Pound | 1.60 | 2.05 | 2.65 | 3.70 | 3.70

Economy Letter-Post
Weight not over (ozs.) | Group 1 | Group 2 | Group 3 | Group 4 | Group 5
16 | $2.85 | $5.15 | $4.10 | 4.25 | $6.00
20 | 4.25 | 6.10 | 4.85 | 4.95 | 6.90
24 | 4.80 | 7.00 | 5.55 | 5.65 | 7.85
28 | 5.30 | 7.90 | 6.20 | 6.30 | 8.85
32 | 5.90 | 8.85 | 6.85 | 7.00 | 9.80
36 | 6.30 | 9.60 | 7.50 | 7.65 | 10.60
40 | 6.75 | 10.40 | 8.15 | 8.25 | 11.35
44 | 7.15 | 11.15 | 8.80 | 8.90 | 12.15
48 | 7.60 | 11.90 | 9.45 | 9.55 | 12.95
52 | 8.00 | 12.70 | 10.10 | 10.15 | 13.75
56 | 8.45 | 13.45 | 10.75 | 10.80 | 14.50
60 | 8.85 | 14.20 | 11.40 | 11.45 | 15.30
64 | 9.30 | 15.00 | 12.05 | 12.05 | 15.75

International Surface Air Lift
Rate group | Per piece | Full service per pound | M-bag full service | Direct ship per pound | M-bag direct ship | Drop ship per pound | M-bag drop ship
1 (Canada) | $0.30 | $3.15 | $1.60 | $2.65 | $1.60 | $2.15 | $1.50
2 (Mexico) | 0.13 | 4.55 | 1.70 | 4.05 | 1.70 | 3.55 | 1.60
3 | 0.26 | 3.55 | 1.85 | 3.05 | 1.85 | 2.55 | 1.60
4 | 0.26 | 3.90 | 2.65 | 3.40 | 2.65 | 2.90 | 2.65
5 | 0.13 | 4.85 | 2.35 | 4.35 | 2.35 | 3.85 | 2.10
6 | 0.13 | 4.75 | 2.35 | 4.25 | 2.35 | 3.75 | 2.10
7 | 0.13 | 4.85 | 2.60 | 4.35 | 2.60 | 3.85 | 2.35
8 | 0.13 | 6.80 | 3.40 | 6.30 | 3.40 | 5.80 | 3.15

Publishers' Periodicals
Weight not over (ozs.) | Group 1 | Group 2 | Group 3 | Group 4 | Group 5
1 | $0.61 | $0.80 | $0.70 | $0.68 | $0.81
2 | 0.69 | 1.01 | 0.82 | 0.81 | 1.00
3 | 0.77 | 1.21 | 0.95 | 0.93 | 1.19
4 | 0.85 | 1.41 | 1.08 | 1.06 | 1.38
5 | 0.93 | 1.61 | 1.21 | 1.19 | 1.57
6 | 1.01 | 1.81 | 1.33 | 1.31 | 1.76
7 | 1.09 | 2.01 | 1.46 | 1.44 | 1.94
8 | 1.17 | 2.21 | 1.59 | 1.56 | 2.13
12 | 1.55 | 2.85 | 2.10 | 2.06 | 2.73
16 | 1.93 | 3.50 | 2.61 | 2.57 | 3.32
20 | 2.15 | 4.14 | 3.12 | 3.07 | 3.92
24 | 2.36 | 4.78 | 3.63 | 3.57 | 4.51
28 | 2.58 | 5.43 | 4.14 | 4.07 | 5.10
32 | 2.79 | 6.07 | 4.65 | 4.57 | 5.70
36 | 5.22 | 6.71 | 5.16 | 5.07 | 6.29
40 | 5.39 | 7.36 | 5.67 | 5.57 | 6.89
44 | 5.55 | 8.00 | 6.18 | 6.08 | 7.48
48 | 5.71 | 8.64 | 6.69 | 6.58 | 8.07
52 | 5.93 | 9.29 | 7.20 | 7.08 | 8.67
56 | 6.14 | 9.93 | 7.71 | 7.58 | 9.26
60 | 6.36 | 10.57 | 8.22 | 8.08 | 9.86
64 | 6.57 | 11.22 | 8.73 | 8.58 | 10.45

Books and Sheet Music
Weight not over (ozs.) | Group 1 | Group 2 | Group 3 | Group 4 | Group 5
0.5 | $2.30 | $3.00 | $2.80 | $2.75 | $3.35
1 | 2.30 | 3.00 | 2.80 | 2.75 | 3.35
2 | 2.30 | 3.00 | 2.80 | 2.75 | 3.35
3 | 2.30 | 3.00 | 2.80 | 2.75 | 3.35
4 | 2.30 | 3.00 | 2.80 | 2.75 | 3.35
5 | 2.30 | 3.00 | 2.80 | 2.75 | 3.35
6 | 2.30 | 3.00 | 2.80 | 2.75 | 3.35
7 | 2.30 | 3.00 | 2.80 | 2.75 | 3.35
8 | 2.30 | 3.00 | 2.80 | 2.75 | 3.35
12 | 2.30 | 3.00 | 2.80 | 2.75 | 3.35
16 | 2.30 | 3.00 | 2.80 | 2.75 | 3.35
20 | 2.50 | 3.60 | 3.35 | 3.25 | 4.00
24 | 2.70 | 4.15 | 3.95 | 3.80 | 4.65
28 | 2.90 | 4.75 | 4.50 | 4.30 | 5.30
32 | 3.10 | 5.25 | 5.00 | 4.85 | 5.95
36 | 4.05 | 5.75 | 5.40 | 5.25 | 6.45
40 | 4.95 | 6.20 | 5.80 | 5.65 | 7.00
44 | 5.85 | 6.70 | 6.20 | 6.05 | 7.55
48 | 6.75 | 7.10 | 6.55 | 6.45 | 7.95
52 | 7.00 | 8.05 | 6.95 | 6.85 | 8.50
56 | 7.30 | 9.00 | 7.40 | 7.25 | 9.05
60 | 7.55 | 9.95 | 7.80 | 7.75 | 9.55
64 | 7.85 | 10.85 | 8.20 | 8.15 | 10.00

Economy Parcel Post
Weight not over (lbs.) | Group 1 | Group 2 | Group 3 | Group 4 | Group 5 | Group 6 | Group 7
5 | $16.00 | $20.50 | $24.25 | $24.50 | $22.50 | $19.25 | $23.25
6 | 16.60 | 21.85 | 26.35 | 26.35 | 24.00 | 20.40 | 25.30
7 | 17.40 | 23.20 | 28.45 | 27.65 | 25.55 | 21.55 | 27.40
8 | 18.20 | 24.25 | 30.55 | 29.25 | 27.15 | 22.70 | 29.50
9 | 18.70 | 25.30 | 32.65 | 30.55 | 28.70 | 23.85 | 31.60
10 | 19.25 | 26.10 | 34.50 | 31.90 | 30.30 | 25.05 | 33.75
11 | 19.70 | 26.90 | 36.30 | 33.00 | 31.60 | 26.05 | 35.40
12 | 20.20 | 27.65 | 38.10 | 34.10 | 32.95 | 27.05 | 37.10
13 | 20.65 | 28.45 | 39.90 | 35.20 | 34.25 | 28.05 | 38.80
14 | 21.15 | 29.25 | 41.70 | 36.30 | 35.55 | 29.05 | 40.45
15 | 21.60 | 30.05 | 43.50 | 37.40 | 36.90 | 30.05 | 42.15
16 | 22.10 | 30.85 | 45.25 | 38.50 | 38.20 | 31.05 | 43.85
17 | 22.55 | 31.60 | 47.05 | 39.65 | 39.50 | 32.05 | 45.55
18 | 23.05 | 32.40 | 48.85 | 40.75 | 40.85 | 33.05 | 47.20
19 | 23.50 | 33.20 | 50.65 | 41.85 | 42.15 | 34.05 | 48.90
20 | 24.00 | 34.00 | 52.45 | 42.95 | 43.50 | 35.05 | 50.60
21 | 24.55 | 34.75 | 54.10 | 43.95 | 44.70 | 36.00 | 52.30
22 | 25.15 | 35.45 | 55.80 | 44.95 | 45.90 | 36.95 | 53.95
23 | 25.70 | 36.20 | 57.50 | 45.95 | 47.10 | 37.90 | 55.65
24 | 26.30 | 36.95 | 59.20 | 46.95 | 48.35 | 38.85 | 57.35
25 | 26.90 | 37.70 | 60.85 | 47.95 | 49.55 | 39.80 | 59.00
26 | 27.45 | 38.40 | 62.55 | 48.95 | 50.75 | 40.75 | 60.70
27 | 28.05 | 39.15 | 64.25 | 49.95 | 51.95 | 41.70 | 62.40
28 | 28.60 | 39.90 | 65.95 | 50.95 | 53.15 | 42.65 | 64.10
29 | 29.20 | 40.65 | 67.60 | 51.95 | 54.40 | 43.60 | 65.75
30 | 29.80 | 41.35 | 69.30 | 52.95 | 55.60 | 44.55 | 67.45
31 | 30.35 | 42.10 | 70.90 | 53.90 | 56.75 | 45.45 | 69.05
32 | 30.95 | 42.85 | 72.45 | 54.85 | 57.90 | 46.30 | 70.60
33 | 31.50 | 43.60 | 74.05 | 55.80 | 59.10 | 47.20 | 72.20
34 | 32.10 | 44.30 | 75.60 | 56.75 | 60.25 | 48.10 | 73.80
35 | 32.65 | 45.05 | 77.20 | 57.70 | 61.40 | 49.00 | 75.35
36 | 33.25 | 45.80 | 78.80 | 58.65 | 62.55 | 49.90 | 76.95
37 | 33.85 | 46.55 | 80.35 | 59.60 | 63.70 | 50.80 | 78.50
38 | 34.40 | 47.25 | 81.95 | 60.55 | 64.85 | 51.70 | 80.10
39 | 35.00 | 48.00 | 83.55 | 61.50 | 66.05 | 52.60 | 81.70
40 | 35.55 | 48.75 | 85.10 | 62.45 | 67.20 | 53.50 | 83.25
41 | 36.15 | 49.50 | 86.70 | 63.40 | 68.35 | 54.40 | 84.85
42 | 36.75 | 50.20 | 88.25 | 64.35 | 69.50 | 55.30 | 86.45
43 | 37.30 | 50.95 | 89.85 | 65.30 | 70.65 | 56.20 | 88.00
44 | 37.90 | 51.70 | 91.45 | 66.25 | 71.85 | 57.05 | 89.60
45 | 38.45 | N/A | 93.00 | 67.20 | 73.00 | 57.95 | 91.15
46 | 39.05 | N/A | 94.60 | 68.15 | 74.15 | 58.85 | 92.75
47 | 39.65 | N/A | 96.20 | 69.10 | 75.30 | 59.75 | 94.35
48 | 40.20 | N/A | 97.75 | 70.05 | 76.45 | 60.65 | 95.90
49 | 40.80 | N/A | 99.35 | 71.00 | 77.65 | 61.55 | 97.50
50 | 41.35 | N/A | 100.90 | 71.95 | 78.80 | 62.45 | 99.10
51 | 41.95 | N/A | 102.50 | 72.90 | 79.95 | 63.35 | 100.65
52 | 42.55 | N/A | 104.10 | 73.85 | 81.10 | 64.25 | 102.25
53 | 43.10 | N/A | 105.65 | 74.80 | 82.25 | 65.15 | 103.80
54 | 43.70 | N/A | 107.25 | 75.75 | 83.40 | 66.05 | 105.40
55 | 44.25 | N/A | 108.85 | 76.70 | 84.60 | 66.95 | 107.00
56 | 44.85 | N/A | 110.40 | 77.65 | 85.75 | 67.80 | 108.55
57 | 45.45 | N/A | 112.00 | 78.60 | 86.90 | 68.70 | 110.15
58 | 46.00 | N/A | 113.55 | 79.50 | 88.05 | 69.60 | 111.70
59 | 46.60 | N/A | 115.15 | 80.45 | 89.20 | 70.50 | 113.30
60 | 47.15 | N/A | 116.75 | 81.40 | 90.40 | 71.40 | 114.90
61 | 47.75 | N/A | 118.30 | 82.35 | 91.55 | 72.30 | 116.45
62 | 48.35 | N/A | 119.90 | 83.30 | 92.70 | 73.20 | 118.05
63 | 48.90 | N/A | 121.45 | 84.25 | 93.85 | 74.10 | 119.65
64 | 49.50 | N/A | 123.05 | 85.20 | 95.00 | 75.00 | 121.20
65 | 50.05 | N/A | 124.65 | 86.15 | 96.20 | 75.90 | 122.80
66 | 50.65 | N/A | 126.20 | 87.10 | 97.35 | 76.80 | 124.35
67 | N/A | N/A | N/A | N/A | 98.50 | 77.70 | 125.95
68 | N/A | N/A | N/A | N/A | 99.65 | 78.60 | 127.55
69 | N/A | N/A | N/A | N/A | 100.80 | 79.45 | 129.10
70 | N/A | N/A | N/A | N/A | 101.95 | 80.35 | 130.70

Economy Parcel Post
Weight not over (lbs.) | Group 8 | Group 9 | Group 10 | Group 11 | Group 12
5 | $22.75 | $30.25 | $23.00 | $27.75 | $21.25
6 | 24.05 | 32.60 | 24.75 | 30.30 | 23.20
7 | 25.40 | 34.95 | 26.35 | 32.65 | 25.05
8 | 26.75 | 37.25 | 28.20 | 35.05 | 26.90
9 | 28.15 | 39.60 | 30.55 | 37.40 | 28.70
10 | 29.60 | 41.90 | 33.75 | 39.80 | 30.45
11 | 31.00 | 43.90 | 35.20 | 41.95 | 32.20
12 | 32.35 | 45.90 | 36.70 | 44.10 | 33.95
13 | 33.75 | 47.90 | 38.15 | 46.25 | 35.70
14 | 35.10 | 49.90 | 39.65 | 48.45 | 37.40
15 | 36.45 | 51.90 | 41.10 | 50.60 | 39.15
16 | 37.85 | 53.90 | 42.60 | 52.75 | 40.90
17 | 39.20 | 55.90 | 44.05 | 54.90 | 42.65
18 | 40.60 | 57.90 | 45.55 | 57.05 | 44.35
19 | 41.95 | 59.90 | 47.00 | 59.25 | 46.10
20 | 43.30 | 61.90 | 48.50 | 61.40 | 47.85
21 | 44.70 | 63.70 | 49.80 | 63.40 | 49.40
22 | 46.05 | 65.50 | 51.10 | 65.40 | 50.90
23 | 47.45 | 67.30 | 52.45 | 67.40 | 52.45
24 | 48.80 | 69.10 | 53.75 | 69.40 | 53.95
25 | 50.15 | 70.90 | 55.05 | 71.40 | 55.50
26 | 51.55 | 72.65 | 56.40 | 73.40 | 57.00
27 | 52.90 | 74.45 | 57.70 | 75.40 | 58.55
28 | 54.30 | 76.25 | 59.00 | 77.40 | 60.10
29 | 55.65 | 78.05 | 60.35 | 79.40 | 61.60
30 | 57.00 | 79.85 | 61.65 | 81.40 | 63.15
31 | 58.40 | 81.60 | 63.00 | 83.25 | 64.60
32 | 59.75 | 83.30 | 64.30 | 85.10 | 66.10
33 | 61.15 | 85.05 | 65.60 | 86.95 | 67.55
34 | 62.50 | 86.80 | 66.95 | 88.80 | 69.05
35 | 63.85 | 88.55 | 68.25 | 90.65 | 70.50
36 | 65.25 | 90.30 | 69.55 | 92.50 | 72.00
37 | 66.60 | 92.00 | 70.90 | 94.35 | 73.45
38 | 68.00 | 93.75 | 72.20 | 96.20 | 74.95
39 | 69.35 | 95.50 | 73.50 | 98.00 | 76.40
40 | 70.70 | 97.25 | 74.85 | 99.85 | 77.90
41 | 72.10 | 98.65 | 76.15 | 101.70 | 79.35
42 | 73.45 | 100.10 | 77.45 | 103.55 | 80.85
43 | 74.85 | 101.50 | 78.80 | 105.40 | 82.30
44 | 76.20 | 102.90 | 80.10 | 107.25 | 83.80
45 | 77.55 | 104.35 | 81.40 | 109.10 | 85.25
46 | 78.95 | 105.75 | 82.75 | 110.95 | 86.75
47 | 80.30 | 107.20 | 84.05 | 112.80 | 88.20
48 | 81.70 | 108.60 | 85.35 | 114.60 | 89.70
49 | 83.05 | 110.05 | 86.70 | 116.45 | 91.15
50 | 84.45 | 111.45 | 88.00 | 118.30 | 92.65
51 | 85.80 | 112.90 | 89.35 | 120.15 | 94.10
52 | 87.15 | 114.30 | 90.65 | 122.00 | 95.60
53 | 88.55 | 115.75 | 91.95 | 123.85 | 97.05
54 | 89.90 | 117.15 | 93.30 | 125.70 | 98.55
55 | 91.30 | 118.60 | 94.60 | 127.55 | 100.00
56 | 92.65 | 120.00 | 95.90 | 129.40 | 101.50
57 | 94.00 | 121.40 | 97.25 | 131.20 | 103.00
58 | 95.40 | 122.85 | 98.55 | 133.05 | 104.45
59 | 96.75 | 124.25 | 99.85 | 134.90 | 105.95
60 | 98.15 | 125.70 | 101.20 | 136.75 | 107.40
61 | 99.50 | 127.10 | 102.50 | 138.60 | 108.90
62 | 100.85 | 128.55 | 103.80 | 140.45 | 110.35
63 | 102.25 | 129.95 | 105.15 | 142.30 | 111.85
64 | 103.60 | 131.40 | 106.45 | 144.15 | 113.30
65 | 105.00 | 132.80 | 107.75 | 146.00 | 114.80
66 | 106.35 | 134.25 | 109.10 | 147.80 | 116.25
67 | 107.70 | 135.65 | 110.40 | 149.65 | 117.75
68 | 109.10 | 137.05 | 111.70 | 151.50 | 119.20
69 | 110.45 | 138.50 | 113.05 | 153.35 | 120.70
70 | 111.85 | 139.90 | 114.35 | 155.20 | 122.15

Economy (Surface) M-Bagsrun
Type and weight of mailing | Group 1 | Group 2 | Group 3 | Group 4 | Group 5
Regular:
Weight not over 11 lbs | $14.30 | $14.85 | $17.05 | $17.60 | $17.60
Each additional pound or fraction of a pound | 1.30 | 1.35 | 1.55 | 1.60 | 1.60
Books and Sheet Music and Publishers' Periodicals:
Weight not over 11 lbs | 11.00 | 9.35 | 10.45 | 11.55 | 11.55
Each additional pound or fraction of a pound | 1.00 | 0.85 | 0.95 | 1.05 | 1.05

Country Rate Group List
Country | EMS | Airmail parcel post | Economy parcel post | Letter-post | GXG | IPA & ISAL ¹
Afghanistan |  | 7 | 7 | 5 | 7 | 8
Albania | 6 | 7 | 7 | 5 | 8 | 5
Algeria | 11 | 10 | 11 | 5 |  | 8
Andorra | 7 | 7 | 6 | 3 | 6 | 3
Angola | 11 | 10 | 11 | 5 | 8 | 8
Anguilla | 12 | 12 | 12 | 5 | 3 | 6
Antigua & Barbuda |  | 12 | 12 | 5 | 3 | 6
Argentina | 12 | 13 | 12 | 5 | 5 | 6
Armenia | 7 | 7 | 7 | 5 | 8 | 8
Aruba | 12 | 12 | 12 | 5 | 3 | 6
Ascension |  |  | 11 | 5 |  | 5
Australia | 5 | 5 | 8 | 4 | 4 | 4
Austria | 7 | 7 | 6 | 5 | 6 | 3
Azerbaijan | 6 | 7 | 7 | 5 | 8 | 8
Bahamas | 12 | 12 | 12 | 5 | 3 | 6
Bahrain | 11 | 10 |  | 5 | 7 | 8
Bangladesh | 9 | 8 | 8 | 5 | 7 | 8
Barbados | 12 | 12 | 12 | 5 | 3 | 6
Belarus | 6 | 6 | 7 | 5 | 8 | 5
Belgium | 7 | 7 | 6 | 3 | 3 | 3
Belize | 12 | 12 | 12 | 5 | 5 | 6
Benin | 11 | 10 | 10 | 5 | 8 | 8
Bermuda | 12 | 13 | 12 | 5 | 3 | 6
Bhutan | 8 | 9 | 9 | 5 | 5 | 8
Bolivia | 12 | 13 | 12 | 5 | 5 | 6
Bosnia-Herzegovina | 6 | 6 | 6 | 5 | 8 | 5
Botswana | 10 | 11 | 11 | 5 | 8 | 8
Brazil | 12 | 13 | 12 | 5 | 5 | 6
British Virgin Islands |  | 12 | 12 | 5 | 3 | 6
Brunei Darussalam | 8 | 8 | 8 | 5 | 8 | 7
Bulgaria | 6 | 6 | 7 | 5 | 8 | 5
Burkina Faso | 10 | 10 | 11 | 5 | 8 | 8
Burma (Myanmar) |  | 6 | 6 | 5 |  | 8
Burundi | 11 | 11 | 11 | 5 | 8 | 8
Cambodia | 8 | 8 |  | 5 | 8 | 7
Cameroon | 10 | 11 | 11 | 5 | 8 | 8
Canada | 1 | 1 | 1 | 1 | 1 | 1
Cape Verde | 11 | 10 | 11 | 5 | 8 | 8
Cayman Islands | 12 | 12 | 12 | 5 | 3 | 6
Central African Republic | 11 | 11 | 11 | 5 |  | 8
Chad | 10 | 10 |  | 5 | 8 | 8
Chile | 12 | 13 | 12 | 5 | 5 | 6
China | 5 | 5 | 5 | 5 | 4 | 7
Colombia | 12 | 12 | 12 | 5 | 5 | 6
Comoros |  | 10 | 10 | 5 |  | 8
Congo, Democratic Republic of the | 10 | 11 | 11 | 5 | 8 | 8
Congo, Republic of the | 11 | 10 | 10 | 5 | 8 | 8
Costa Rica | 12 | 12 | 12 | 5 | 5 | 6
Cote d'Ivoire (Ivory Coast) | 10 | 11 | 11 | 5 | 8 | 8
Croatia | 6 | 6 | 6 | 5 | 8 | 5
Cuba |  |  |  | 5 |  | 6
Cyprus | 6 | 6 | 6 | 5 | 7 | 8
Czech Republic | 7 | 6 | 7 | 5 | 8 | 5
Denmark | 7 | 7 | 6 | 3 | 6 | 3
Djibouti | 11 | 10 | 10 | 5 | 8 | 8
Dominica | 12 | 12 | 12 | 5 | 3 | 6
Dominican Republic | 12 | 12 | 12 | 5 | 3 | 6
Ecuador | 12 | 13 | 12 | 5 | 5 | 6
Egypt | 11 | 11 | 11 | 5 | 7 | 8
El Salvador | 12 | 12 | 12 | 5 | 5 | 6
Equatorial Guinea | 10 | 10 | 10 | 5 | 8 | 8
Eritrea | 10 | 11 | 11 | 5 | 8 | 8
Estonia | 6 | 7 | 7 | 5 | 8 | 5
Ethiopia | 10 | 10 | 10 | 5 | 8 | 8
Falkland Islands |  |  | 12 | 5 |  | 6
Faroe Islands | 7 | 6 | 6 | 3 | 6 | 5
Fiji | 8 | 8 | 8 | 5 | 5 | 7
Finland | 7 | 7 | 6 | 3 | 6 | 3
France | 7 | 7 | 6 | 3 | 3 | 3
French Guiana | 12 | 13 | 12 | 5 | 5 | 6
French Polynesia | 9 | 9 | 9 | 5 | 8 | 7
Gabon | 11 | 10 | 11 | 5 | 8 | 8
Gambia |  | 11 | 11 | 5 | 8 | 8
Georgia, Republic of | 7 | 7 | 7 | 5 | 8 | 8
Germany | 7 | 7 | 6 | 3 | 3 | 3
Ghana | 10 | 11 | 11 | 5 | 8 | 8
Gibraltar |  | 7 | 6 | 3 | 6 | 3
Great Britain & Northern Ireland | 3 | 3 | 3 | 3 | 3 | 3
Greece | 7 | 7 | 6 | 3 | 6 | 3
Greenland |  | 6 | 6 | 3 | 6 | 3
Grenada | 12 | 12 | 12 | 5 | 3 | 6
Guadeloupe | 12 | 13 | 12 | 5 | 3 | 6
Guatemala | 12 | 12 | 12 | 5 | 5 | 6
Guinea | 10 | 10 | 10 | 5 | 8 | 8
Guinea-Bissau | 11 | 11 |  | 5 |  | 8
Guyana | 12 | 12 | 12 | 5 | 5 | 6
Haiti | 12 | 12 | 12 | 5 | 3 | 6
Honduras | 12 | 13 | 12 | 5 | 5 | 6
Hong Kong | 5 | 5 | 8 | 5 | 3 | 7
Hungary | 7 | 6 | 6 | 5 | 8 | 5
Iceland | 7 | 6 | 6 | 3 | 6 | 3
India | 8 | 9 | 8 | 5 | 7 | 8
Indonesia | 8 | 8 | 8 | 5 | 4 | 7
Iran |  | 11 | 11 | 5 |  | 8
Iraq | 11 | 11 | 11 | 5 | 7 | 8
Ireland (Eire) | 7 | 7 | 6 | 3 | 3 | 3
Israel | 10 | 10 | 10 | 3 | 7 | 3
Italy | 7 | 7 | 6 | 3 | 3 | 3
Jamaica | 12 | 12 | 12 | 5 | 3 | 6
Japan | 4 | 4 | 4 | 4 | 3 | 4
Jordan | 10 | 10 | 10 | 5 | 7 | 8
Kazakhstan | 6 | 6 | 7 | 5 | 8 | 8
Kenya | 10 | 10 | 10 | 5 | 8 | 8
Kiribati |  | 8 | 8 | 5 |  | 7
Korea, Democratic People's Republic of (North) |  |  |  | 5 |  | 7
Korea, Republic of (South) | 5 | 5 | 8 | 5 | 4 | 7
Kuwait | 11 | 10 |  | 5 | 7 | 8
Kyrgyzstan | 6 | 6 | 7 | 5 | 8 | 5
Laos | 9 | 9 | 9 | 5 | 8 | 7
Latvia | 7 | 6 | 6 | 5 | 8 | 5
Lebanon |  | 10 |  | 5 | 7 | 8
Lesotho | 11 | 11 | 11 | 5 | 8 | 8
Liberia | 10 | 10 |  | 5 | 8 | 8
Libya |  | 7 | 7 | 5 |  | 8
Liechtenstein | 7 | 7 | 6 | 3 | 6 | 3
Lithuania | 6 | 6 | 7 | 5 | 8 | 5
Luxembourg | 7 | 7 | 6 | 3 | 3 | 3
Macao | 8 | 9 | 9 | 5 | 3 | 5
Macedonia, Republic of | 7 | 6 | 7 | 5 | 8 | 5
Madagascar | 10 | 11 | 11 | 5 | 8 | 8
Malawi | 10 | 11 | 11 | 5 | 8 | 8
Malaysia | 8 | 8 | 8 | 5 | 4 | 7
Maldives | 9 | 9 | 9 | 5 | 8 | 8
Mali | 10 | 10 | 11 | 5 | 8 | 8
Malta | 7 | 7 | 7 | 5 | 6 | 8
Marshall Islands | 13 | 14 | 13 | 6 |  | 3
Martinique | 12 | 13 | 12 | 5 | 3 | 6
Mauritania | 10 | 10 | 11 | 5 | 8 | 8
Mauritius | 10 | 10 | 10 | 5 | 8 | 8
Mexico | 2 | 2 | 2 | 2 | 2 | 2
Micronesia, Federated States of | 13 | 14 | 13 | 6 |  | 3
Moldova | 6 | 7 | 7 | 5 | 8 | 8
Mongolia | 9 | 9 | 9 | 5 | 8 | 7
Montserrat |  | 8 | 8 | 5 | 3 | 6
Morocco | 11 | 10 | 11 | 5 | 8 | 8
Mozambique | 10 | 11 | 11 | 5 | 8 | 8
Namibia | 11 | 11 | 11 | 5 | 8 | 8
Nauru | 8 | 8 | 8 | 5 |  | 7
Nepal | 8 | 9 | 9 | 5 | 8 | 7
Netherlands | 7 | 7 | 6 | 3 | 3 | 3
Netherlands Antilles | 12 | 12 | 12 | 5 | 3 | 6
New Caledonia | 9 | 9 | 9 | 5 | 5 | 7
New Zealand | 8 | 8 | 8 | 4 | 4 | 4
Nicaragua | 12 | 12 | 12 | 5 | 5 | 6
Niger | 10 | 10 | 10 | 5 | 8 | 8
Nigeria | 11 | 10 | 10 | 5 | 8 | 8
Norway | 7 | 7 | 6 | 3 | 6 | 3
Oman | 11 | 10 |  | 5 | 7 | 8
Pakistan | 8 | 9 | 8 | 5 | 7 | 8
Panama | 12 | 12 | 12 | 5 | 5 | 6
Papua New Guinea | 8 | 9 | 9 | 5 | 5 | 7
Paraguay | 12 | 13 | 12 | 5 | 5 | 6
Peru | 12 | 13 | 12 | 5 | 5 | 6
Philippines | 8 | 9 | 8 | 5 | 4 | 7
Pitcairn Island |  | 8 | 8 | 5 |  | 7
Poland | 6 | 6 | 6 | 5 | 8 | 5
Portugal | 7 | 7 | 7 | 3 | 6 | 3
Qatar | 11 | 10 |  | 5 | 7 | 8
Reunion |  | 13 | 12 | 5 | 8 | 8
Romania | 6 | 7 | 7 | 5 | 8 | 5
Russia | 7 | 7 | 7 | 5 | 8 | 5
Rwanda | 10 | 10 | 11 | 5 | 8 | 8
St. Christopher (St. Kitts) & Nevis | 12 | 12 | 12 | 5 | 3 | 6
Saint Helena |  | 11 | 11 | 5 |  | 8
Saint Lucia | 12 | 12 | 12 | 5 | 3 | 6
Saint Pierre & Miquelon |  | 6 | 6 | 5 |  | 6
Saint Vincent & Grenadines | 12 | 13 | 12 | 5 | 3 | 6
San Marino | 7 | 7 | 8 | 3 | 3 | 3
Sao Tome & Principe |  | 10 | 10 | 5 |  | 5
Saudi Arabia | 10 | 10 | 10 | 5 | 7 | 8
Senegal | 11 | 10 | 10 | 5 | 8 | 8
Serbia-Montenegro (Yugoslavia) | 7 | 7 | 7 | 5 | 8 | 5
Seychelles | 10 | 10 | 11 | 5 | 8 | 8
Sierra Leone | 10 | 10 |  | 5 |  | 8
Singapore | 8 | 8 | 8 | 5 | 3 | 7
Slovak Republic (Slovakia) | 7 | 7 | 6 | 5 | 8 | 5
Slovenia | 7 | 6 | 7 | 5 | 8 | 5
Solomon Islands | 8 | 8 | 8 | 5 |  | 7
Somalia | 10 | 10 | 10 | 5 |  | 8
South Africa | 11 | 11 | 10 | 5 | 8 | 8
Spain | 7 | 7 | 6 | 3 | 6 | 3
Sri Lanka | 8 | 9 | 8 | 5 | 7 | 8
Sudan | 10 | 11 | 11 | 5 |  | 8
Suriname |  | 12 | 12 | 5 | 5 | 6
Swaziland | 11 | 10 | 10 | 5 | 8 | 8
Sweden | 7 | 7 | 7 | 3 | 6 | 3
Switzerland | 7 | 7 | 6 | 3 | 6 | 3
Syrian Arab Republic (Syria) | 10 | 10 | 10 | 5 |  | 8
Taiwan | 8 | 9 | 8 | 5 | 3 | 7
Tajikistan | 7 | 6 | 6 | 5 |  | 8
Tanzania | 10 | 10 | 10 | 5 | 8 | 8
Thailand | 9 | 8 | 8 | 5 | 4 | 7
Togo | 11 | 10 | 10 | 5 | 8 | 8
Tonga |  | 8 | 8 | 5 |  | 7
Trinidad & Tobago | 12 | 12 | 12 | 5 | 3 | 6
Tristan da Cunha |  | 10 | 11 | 5 |  | 8
Tunisia | 11 | 10 | 10 | 5 | 8 | 8
Turkey | 10 | 10 | 10 | 5 | 7 | 5
Turkmenistan | 7 | 7 | 7 | 5 | 8 | 5
Turks & Caicos Islands |  | 12 | 12 | 5 | 3 | 6
Tuvalu |  | 8 | 8 | 5 | 8 | 7
Uganda | 10 | 10 | 11 | 5 | 8 | 8
Ukraine | 7 | 7 | 7 | 5 | 8 | 8
United Arab Emirates | 10 | 10 | 10 | 5 | 7 | 8
Uruguay | 12 | 13 | 12 | 5 | 5 | 6
Uzbekistan |  | 7 | 7 | 5 | 8 | 8
Vanuatu | 8 | 8 | 8 | 5 | 5 | 7
Vatican City | 7 | 7 | 6 | 3 | 3 | 3
Venezuela | 12 | 12 | 12 | 5 | 5 | 6
Vietnam | 8 | 9 | 8 | 5 | 4 | 7
Wallis & Futuna Islands |  | 9 | 9 | 5 | 4 | 7
Western Samoa | 8 | 8 | 8 | 5 |  | 7
Yemen | 10 | 10 | 11 | 5 | 7 | 8
Zambia | 10 | 10 | 11 | 5 | 8 | 8
Zimbabwe | 11 | 11 | 11 | 5 | 8 | 8
¹ ISAL service not available to all countries. See Individual Country Listings for availability.

Insurance
Parcel post indemnity not over | Canada | All other countries
$50 | $1.35 | $1.95
100 | 2.30 | 2.75
200 | 3.35 | 3.80
300 | 4.40 | 4.85
400 | 5.45 | 5.90
500 | 6.50 | 6.95
600 | 7.55 | 8.00
675 | 8.60 | 8.00
700 |  | 9.05
Add'l $100 |  | 1.05

Global express guaranteed indemnity not over | All countries
$100 | No fee
Add'l $100 up to $2,499 | 0.75

Special Services Fees ¹
Description | Fee
International Postal Money Orders | $3.45
International Reply Coupons | 1.85
International Business Reply Card | 0.85
International Business Reply Envelope (up to 2 oz) | 1.25
Customs Clearance and Delivery Fee | 4.75
¹ Fees not tied to domestic fees.

* * * * *

We will publish an appropriate amendment to 39 CFR part 20 to reflect these changes if our proposal is adopted.

Neva R. Watson,
Attorney, Legislative.

[FR Doc. 05-18260 Filed 9-14-05; 8:45 am]

BILLING CODE 7710-12-P